NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: April 2, 2009.

Time: 8:30 a.m. to 5:30 p.m.

Room: 421.

Program: This meeting will review applications for America's Historical and Cultural Organizations in American Studies, submitted to the Division of Public Programs, at the January 28, 2009 deadline.

2. Date: April 3, 2009.

Time: 8:30 a.m. to 5:30 p.m.

Room: 421.

Program: This meeting will review applications for America's Media Makers in U.S. History II, submitted to the Division of Public Programs, at the January 28, 2009 deadline.

3. Date: April 6, 2009.

Time: 8:30 a.m. to 5:30 p.m.

Room: 421.

Program: This meeting will review applications for America's Historical and Cultural Organizations in U.S. History II, submitted to the Division of Public Programs, at the January 28, 2009 deadline.

4. Date: April 7, 2009.

Time: 8:30 a.m. to 5:30 p.m.

Room: 421.

Program: This meeting will review applications for America's Media Makers in American Studies, submitted to the Division of Public Programs, at the January 28, 2009 deadline.

5. Date: April 13, 2009.

Time: 8:30 a.m. to 5:30 p.m.

Room: 421.

Program: This meeting will review applications for America's Historical and Cultural Organizations in U.S. History III, submitted to the Division of Public Programs, at the January 28, 2009 deadline.

6. Date: April 14, 2009.

Time: 8:30 a.m. to 5:30 p.m.

Room: 421.

Program: This meeting will review applications for America's Historical and Cultural Organizations in Museums and Miscellaneous, submitted to the Division of Public Programs, at the January 28, 2009 deadline.

7. Date: April 14, 2009.

Time: 9 a.m. to 5 p.m.

Room: 402.

Program: This meeting will review applications for Institutes for Advanced Topics in the Digital Humanities, submitted to the Office of the Digital Humanities, at the February 18, 2009 deadline.

8. Date: April 21, 2009.

Time: 9 a.m. to 5 p.m.

Room: 415.

Program: This meeting will review applications for We the People Challenge Grants, submitted to the Office of Challenge Grants, at the February 3, 2009 deadline.

9. Date: April 21, 2009.

Time: 9 a.m. to 5:30 p.m.

Room: 315.

Program: This meeting will review applications for Seminars and Institutes, submitted to the Division of Education Programs, at the March 3, 2009 deadline.

10. Date: April 22, 2009.

Time: 9 a.m. to 5:30 p.m.

Room: 315.

Program: This meeting will review applications for Seminars and Institutes, submitted to the Division of Education Programs, at the March 3, 2009 deadline.

11. Date: April 23, 2009.

Time: 9 a.m. to 5:30 p.m.

Room: 315.

Program: This meeting will review applications for Seminars and Institutes, submitted to the Division of Education Programs, at the March 3, 2009 deadline.

12. Date: April 24, 2009.

Time: 9 a.m. to 5:30 p.m.

Room: 315.

Program: This meeting will review applications for Seminars and Institutes, submitted to the Division of Education Programs, at the March 3, 2009 deadline.

13. Date: April 28, 2009.

Time: 9 a.m. to 5:30 p.m.

Room: 315.

Program: This meeting will review applications for Seminars and Institutes, submitted to the Division of Education Programs, at the March 3, 2009 deadline.

14. Date: April 29, 2009.

Time: 9 a.m. to 5:30 p.m.

Room: 315.

Program: This meeting will review applications for Seminars and Institutes, submitted to the Division of Education Programs, at the March 3, 2009 deadline.

15. Date: April 30, 2009.

Time: 9 a.m. to 5:30 p.m.

Room: 315.

Program: This meeting will review applications for Seminars and Institutes, submitted to the Division of Education Programs, at the March 3, 2009 deadline.

Michael P. McDonald,
Advisory Committee Management Officer.

[FR Doc. E9-5704 Filed 3-16-09; 8:45 am]

BILLING CODE 7536-01-P